ENVIRONMENTAL PROTECTION AGENCY

[ER-FRL-6692-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

DRAFT EISs

EIS No. 20070286, ERP No. D-BLM-J65331-WY, Kemmerer Field Office Planning Area, Resource Management Plan, Implementation, Lincoln, Sweetwater and Uinta Counties, WY.

Summary: EPA expressed environmental concerns about impacts from cumulative emissions leading to visibility impairments and/or exceedances of air quality standards. EPA recommended broad implementation of air mitigation measures. Rating EC2.

EIS No. 20070295, ERP No. D-AFS-J39036-CO, Hunter Reservoir Enlargement Project, Reconstruction and Enlargement, Ute Water Conservancy District, U.S. Army COE section 404 Permit, Grand Mesa National Forest, Mesa County, CO.

Summary: EPA has identified the potential for significant adverse impacts to wetlands that would be environmentally unsatisfactory. Major issues include the limited range of alternatives for meeting the proposed action and lack of adequate alternative analysis, and adverse impacts to 32 acres of a fen/montane wetland complex, an aquatic resource of national importance. Rating EU3.

EIS No. 20070313, ERP No. D-NOA-E91019-00, Amendment 2 to the Consolidated Atlantic Highly Migratory Species Fishery Management Plan, To Implement Management Measures that Prevent Overfishing and Rebuild Overfished Stocks, Implementation, Exclusive Economic Zone (EEZ) of the Atlantic Ocean, Gulf of Mexico and Caribbean Sea.

Summary: EPA does not object to the proposed action. Rating LO.

EIS No. 20070339, ERP No. D-COE-K39110-GU, Apra Harbor Master Plan for Deep-Draft Wharf and Fill Improvements, Implementation, Piti, Guam.

Summary: EPA expressed environmental objections about significant impacts to the marine environment and coral reefs including the permanent loss of 29 acres of coral reef and impacts on up to 150 acres of marine habitat. EPA recommended evaluation of less damaging alternatives for the fill/creation of operational backlands and a comprehensive approach for compensatory mitigation. Rating EO2.

EIS No. 20070274, ERP No. DS-COE-D30005-MD, Atlantic Coast of Maryland Shoreline Protection Project, Proposed Dredging of Several New Offshore Shoals to Provide Sand for Borrow Sources from 2010 to 2044, Ocean City, Worcester County, MD.

Summary: EPA expressed environmental concerns about impacts to offshore shoals. Rating EC1.

FINAL EISs

EIS No. 20070381, ERP No. F-AFS-L65508-AK, Kenai Winter Access Project, Develop a Winter Access Management Plan for 2006/2007 Winter Season, Implementation, Seward Ranger District, Chugach National Forest, Located on the Kenai Peninsula in Southcentral, AK.

Summary: EPA's previous issues have been resolved; therefore, EPA does not object to the action as proposed.

EIS No. 20070417, ERP No. F-FHW-C40337-DC, 11th Street Bridge Project, Anacostia Freeway I-295/DC 295, to the Southeast/Southwest Freeway (I-695) Improvements, Funding, NPDES Permit, US Army COE section 10 and 404 Permits, Washington, DC.

Summary: EPA does not object to the proposed project.

Dated: October 30, 2007.
Ken Mittelholtz,
Environmental Protection Specialist, Office of Federal Activities.

[FR Doc. E7-21612 Filed 11-1-07; 8:45 am]

BILLING CODE 6560-50-P